DEPARTMENT OF STATE

[Public Notice 4909]

Culturally Significant Objects Imported for Exhibition Determinations: “Retratos: 2,000 Years of Latin American Portraits”

ACTION: Notice; correction.

SUMMARY: On November 2, 2004, Notice was published in the Federal Register (volume 69, number 211, 63566) pertaining to the exhibition “Retratos: 2,000 Years of Latin American Portraits.” The referenced Notice is hereby corrected to include the San Diego Museum of Art, San Diego, California, as an exhibition venue from on or about April 16, 2005 to on or about June 12, 2005.

FOR FURTHER INFORMATION CONTACT: For further information contact Wolodymyr R. Sulzynsky, the Office of the Legal Adviser, Department of State, (telephone: 202/453-8050). The address is: Department of State, SA-44, and 301 4th Street, SW., Room 700, Washington, DC 20547-0001.

Dated: November 17, 2004.
C. Miller Crouch,
Principal Deputy Assistant Secretary for Educational and Cultural Affairs, Department of State.

[FR Doc. 04-26293 Filed 11-26-04; 8:45 am]

BILLING CODE 4710-08-P